DEPARTMENT OF COMMERCE

National Oceanic and Atmospheric Administration

[RTID 0648-XD037]

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of its Habitat Blueprint Working Group to review the draft Habitat Blueprint.

DATES: The meetings will be held from 10 a.m. until 12 p.m. on Wednesday, June 28, 2023 and Wednesday, August 16, 2023.

ADDRESSES: The meetings will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including the webinar registration link, online public comment form, agenda, and briefing book materials will be posted on the Council's website at: https://safmc.net/workgroups/. Comments become part of the Administrative Record of the meeting and will automatically be posted to the website and available for Council consideration.

The Council is developing the Habitat Blueprint to provide direction for its habitat program. The Habitat Blueprint will address program goals and objectives, document actions to address habitat requirements of the Magnuson-Stevens Act, and provide guidance on the role and use of the Council's Habitat Advisory Panel.

At the June 28 meeting, the Working Group will review the draft Blueprint and the Council's web-based habitat and ecosystem mapping tools. At the August 16 meeting the Working Group will review the draft Habitat Blueprint and develop recommendations for consideration by the Council's Habitat Committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: June 5, 2023.
Rey Israel Marquez,
Acting Deputy Director, Office of Sustainable Fisheries, National Marine Fisheries Service.

[FR Doc. 2023-12275 Filed 6-7-23; 8:45 am]

BILLING CODE 3510-22-P